DEPARTMENT OF COMMERCE

National Oceanic and Atmospheric Administration

50 CFR Part 660

[Docket No. 150316270-5270-01]

RIN 0648-XE121

Fisheries Off West Coast States; Modifications of the West Coast Commercial and Recreational Salmon Fisheries; Inseason Actions #22 through #29

AGENCY: National Marine Fisheries Service (NMFS), National Oceanic and Atmospheric Administration (NOAA), Commerce.

ACTION: Modification of fishing seasons; request for comments.

SUMMARY: NMFS announces eight inseason actions in the ocean salmon fisheries. These inseason actions modified the commercial and recreational salmon fisheries in the area from the U.S./Canada border to the U.S./Mexico border.

DATES: The effective dates for the inseason actions are set out in this document under the heading Inseason Actions. Comments will be accepted through September 17, 2015.

ADDRESSES: You may submit comments, identified by NOAA-NMFS-2015-0001, by any one of the following methods:

• Electronic Submissions: Submit all electronic public comments via the Federal eRulemaking Portal. Go to www.regulations.gov/#!docketDetail;D=NOAA-NMFS-2015-0001, click the “Comment Now!” icon, complete the required fields, and enter or attach your comments.

• Mail: William W. Stelle, Jr., Regional Administrator, West Coast Region, NMFS, 7600 Sand Point Way NE, Seattle, WA 98115-6349.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Peggy Mundy at 206-526-4323.

SUPPLEMENTARY INFORMATION:

Background

In the 2015 annual management measures for ocean salmon fisheries (80 FR 25611, May 5, 2015), NMFS announced the commercial and recreational fisheries in the area from the U.S./Canada border to the U.S./Mexico border, beginning May 1, 2015, and 2016 salmon fisheries opening earlier than May 1, 2016. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participated in the consultations described in this document were: Oregon Department of Fish and Wildlife (ODFW) and Washington Department of Fish and Wildlife (WDFW).

Management of the salmon fisheries is generally divided into two geographic areas: north of Cape Falcon (U.S./Canada border to Cape Falcon, OR) and south of Cape Falcon (Cape Falcon, OR, to the U.S./Mexico border). The inseason actions reported in this document affect fisheries north and south of Cape Falcon. All times mentioned refer to Pacific daylight time.

Inseason Actions

Inseason Action #22

Description of action: Inseason action #22 adjusted the daily bag limit in the recreational salmon fishery in the Westport Subarea (Queets River, WA to Leadbetter Point, WA) to allow retention of two Chinook salmon; previously, only one Chinook salmon could be retained daily.

Effective dates: Inseason action #22 took effect on August 15, 2015, and remains in effect until the end of the 2015 recreational salmon fishery, or until modified by further inseason action.

Reason and authorization for the action: The Regional Administrator (RA) considered fishery effort and Chinook salmon landings to date, and determined that sufficient quota remained to allow an increase in the Chinook salmon bag limit without exceeding the quota. Inseason action to modify recreational bag limits is authorized by 50 CFR 660.409(b)(1)(iii).

Consultation date and participants: Consultation on inseason action #22 occurred on August 12, 2015. Participants in this consultation were staff from NMFS, Council, WDFW, and ODFW.

Inseason Action #23

Description of action: Inseason action #23 modified the daily bag limit in the recreational salmon fishery in the Neah Bay Subarea (U.S./Canada border to Cape Alava, WA) to allow retention of one Chinook salmon per day for two days, beginning at 12:01 a.m., August 14, 2015 through 11:59 p.m., August 15, 2015. Effective 12:01 a.m., August 16, 2015, non-retention of Chinook salmon in this subarea resumed. This action superseded inseason action #18.

Effective dates: Inseason action #23 took effect on August 14, 2015, and remained in effect until it was superseded by inseason action #28 on August 21, 2015.

Reason and authorization for the action: Under inseason action #18, which took effect August 2, 2015, NMFS implemented non-retention of Chinook salmon in the recreational salmon fishery in the Neah Bay Subarea, to prevent exceeding the subarea guideline for Chinook salmon harvest. In the consultation on August 12, 2015, that lead to inseason action #23, the RA considered fishery effort and updated Chinook salmon landings to date and determined that the subarea guideline had sufficient Chinook salmon available to allow limited Chinook salmon retention. This action also made regulations in the Neah Bay Subarea consistent with regulations in adjacent state waters that allow Chinook retention through August 15, 2015. Inseason action to modify recreational bag limits is authorized by 50 CFR 660.409(b)(1)(iii).

Consultation date and participants: Consultation on inseason action #23 occurred on August 12, 2015. Participants in this consultation were staff from NMFS, Council, WDFW, and ODFW.

Inseason Action #24

Description of action: Inseason action #24 adjusted the summer quota (July through September) for the commercial salmon fishery north of Cape Falcon. Unutilized quota from the spring season was rolled over to the summer season. The adjusted summer quota is 27,830 Chinook salmon.

Effective dates: Inseason action #24 took effect August 12, 2015, and remains in effect until the end of the 2015 commercial salmon fishery.

Reason and authorization for the action: The quota for the spring commercial salmon fishing season north of Cape Falcon was 40,200 Chinook salmon, of which, 39,170 Chinook salmon were harvested, leaving 1,030 Chinook salmon unutilized. The STT calculated the quota rollover from the spring fishing season to the summer fishing season on an impact-neutral basis for the lower Columbia River natural tule Chinook salmon stock, and determined the rollover could be implemented on a 1 to 1 basis, with no adjustment needed. Therefore, 1,030 Chinook salmon were added to the summer quota that was set preseason at 26,800 Chinook salmon, resulting in an adjusted summer quota of 27,830 Chinook salmon. Modification of quotas and/or fishing seasons is authorized by 50 CFR 660.409(b)(1)(i).

Consultation date and participants: Consultation on inseason action #24 occurred on August 12, 2015. Participants in this consultation were staff from NMFS, Council, WDFW, and ODFW.

Inseason Action #25

Description of action: Inseason action #25 modified the landing and possession limit for Chinook salmon in the commercial salmon fishery north of Cape Falcon to 50 Chinook salmon per vessel per open period in all areas north of Cape Falcon. This action superseded inseason action #15 (80 FR 43336).

Effective dates: Inseason action #25 took effect on August 14, 2015, and remained in effect until it was superseded by inseason action #29 on August 21, 2015.

Reason and authorization for the action: The annual management measures (80 FR 25611) set the landing and possession limits for the summer commercial salmon fishery north of Cape Falcon at 50 Chinook salmon and 50 marked coho per vessel per open period. Inseason action #15, which took effect on July 10, 2015 (80 FR 43336), modified the Chinook salmon landing and possession limit to 60 Chinook salmon north of the Queets River or 75 Chinook salmon south of the Queets River. On August 12, the RA considered fishery effort and Chinook salmon and coho landings to date, and determined that adjusting the Chinook salmon landing limit to 50 Chinook salmon per vessel per open period, in all areas north of Cape Falcon, would allow access to remaining quota without exceeding the quota. Inseason action to modify quotas and/or fishing seasons is authorized by 50 CFR 660.409(b)(1)(i).

Consultation date and participants: Consultation on inseason action #25 occurred on August 12, 2015. Participants in this consultation were staff from NMFS, Council, WDFW, and ODFW.

Inseason Action #26

Description of action: Inseason action #26 adjusted the quota for the Cape Falcon to Humbug Mountain recreational non-mark-selective coho fishery that begins September 4, 2015. Unutilized quota from the June through August mark-selective coho fishery was rolled over to the non-mark-selective coho fishery on an impact-neutral basis. The adjusted quota is 20,700 non-mark-selective coho.

Effective dates: Inseason action #26 is effective from September 4, 2015 to the end of the 2015 recreational salmon fishery.

Reason and authorization for the action: The annual management measures (80 FR 25611) provide that any remainder of the quota from the Cape Falcon to Oregon/California border mark-selective coho fishery (June 27, 2015 through August 9, 2015) will be transferred on an impact-neutral basis to the September non-selective coho quota from Cape Falcon to Humbug Mountain. The mark-selective coho fishery had 40,092 unutilized mark-selective coho. The STT calculated that the impact-neutral rollover of that remainder from the mark-selective coho fishery yielded 8,219 non-mark-selective coho. The state of Oregon requested a reduced rollover of 8,200 non-mark-selective coho, to allow a buffer for assumed, but not yet accounted impacts. The RA concurred with the rollover, which adjusted the non-mark-selective quota from 12,500 to 20,700 non-mark-selective coho. Modification of quotas and/or fishing seasons is authorized by 50 CFR 660.409(b)(1)(i).

Consultation date and participants: Consultation on inseason action #26 occurred on August 19, 2015. Participants in this consultation were staff from NMFS, Council, WDFW, and ODFW.

Inseason Action #27

Description of action: Inseason action #27 terminated retention of Pacific halibut caught incidental to the commercial salmon fishery, at 11:59 p.m., August 20, 2015, due to attainment of the allocation that was set by the International Pacific Halibut Commission (IPHC). All halibut must be landed within 24 hours of this closure.

Effective dates: Inseason action #27 took effect August 20, 2015 and remains in effect through the end of the 2015 commercial salmon fishery.

Reason and authorization for the action: The RA considered landings and effort to date, and took action to terminate retention of Pacific halibut caught incidental to the commercial salmon fishery due to projected attainment of the allocation set by the IPHC. Inseason action to modify fishing seasons is authorized by 50 CFR 660.409(b)(1)(i).

Consultation date and participants: Consultation on inseason action #27 occurred on August 19, 2015. Participants in this consultation were staff from NMFS, Council, WDFW, ODFW, and IPHC.

Inseason Action #28

Description of action: Inseason action #28 modified the daily bag limit in the recreational salmon fishery in the Neah Bay Subarea (U.S./Canada border to Cape Alava, WA) to allow retention of one Chinook salmon per day. This action superseded inseason action #23.

Effective dates: Inseason action #28 took effect August 21, 2015, and remains in effect until the end of the 2015 recreational salmon fishery, or until modified by further inseason action.

Reason and authorization for the action: The RA considered landings and effort to date and took this action to allow access to remaining Chinook salmon without exceeding the guideline in the Neah Bay Subarea. Inseason action to modify recreational bag limits is authorized by 50 CFR 660.409(b)(1)(iii).

Consultation date and participants: Consultation on inseason action #28 occurred on August 19, 2015. Participants in this consultation were staff from NMFS, Council, WDFW, and ODFW.

Inseason Action #29

Description of action: Inseason action #29 modified the landing and possession limit for Chinook salmon in the commercial salmon fishery north of Cape Falcon to 40 Chinook salmon per vessel per open period in all areas north of Cape Falcon. This action superseded inseason action #25.

Effective dates: Inseason action #29 took effect on August 21, 2015, and remains in effect until the end of the 2015 commercial salmon fishery, or until modified by further inseason action.

Reason and authorization for the action: The RA considered fishery effort and Chinook salmon and coho landings to date, and determined that adjusting the Chinook salmon landing limit would allow access to remaining quota without exceeding the quota. Inseason action to modify quotas and/or fishing seasons is authorized by 50 CFR 660.409(b)(1)(i).

Consultation date and participants: Consultation on inseason action #28 occurred on August 19, 2015. Participants in this consultation were staff from NMFS, Council, WDFW, and ODFW.

All other restrictions and regulations remain in effect as announced for the 2015 ocean salmon fisheries and 2016 salmon fisheries opening prior to May 1, 2016 (80 FR 25611, May 5, 2015).

The RA determined that the best available information indicated that halibut, coho, and Chinook salmon catch to date and fishery effort supported the above inseason actions recommended by the states of Washington and Oregon. The states manage the fisheries in state waters adjacent to the areas of the U.S. exclusive economic zone in accordance with these Federal actions. As provided by the inseason notice procedures of 50 CFR 660.411, actual notice of the described regulatory actions was given, prior to the time the action was effective, by telephone hotline numbers 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (80 FR 25611, May 5, 2015), the West Coast Salmon Fishery Management Plan (Salmon FMP), and regulations implementing the Salmon FMP, 50 CFR 660.409 and 660.411. Prior notice and opportunity for public comment was impracticable because NMFS and the state agencies had insufficient time to provide for prior notice and the opportunity for public comment between the time Chinook salmon catch and effort assessments and projections were developed and fisheries impacts were calculated, and the time the fishery modifications had to be implemented in order to ensure that fisheries are managed based on the best available scientific information, ensuring that conservation objectives and ESA consultation standards are not exceeded. The AA also finds good cause to waive the 30-day delay in effectiveness required under 5 U.S.C. 553(d)(3), as a delay in effectiveness of these actions would allow fishing at levels inconsistent with the goals of the Salmon FMP and the current management measures.

These actions are authorized by 50 CFR 660.409 and 660.411 and are exempt from review under Executive Order 12866.

Authority: 16 U.S.C. 1801 et seq.

Dated: August 28, 2015.
Emily H. Menashes,
Acting Director, Office of Sustainable Fisheries, National Marine Fisheries Service.

[FR Doc. 2015-21770 Filed 9-1-15; 8:45 am]

BILLING CODE 3510-22-P